DEPARTMENT OF HOUSING AND URBAN DEVELOPMENT

[Docket No. FR-4878-N-06]

Final Guidance to Federal Financial Assistance Recipients Regarding Title VI Prohibition Against National Origin Discrimination Affecting Limited English Proficient Persons: Update of Web Site Reference

AGENCY: Office of the Assistant Secretary for Fair Housing and Equal Opportunity, HUD.

ACTION: Notice: Update of Web site reference.

SUMMARY: This notice updates an obsolete Web site reference that was included in HUD's final “Guidance to Federal Financial Assistance Recipients Regarding Title VI Prohibition Against National Origin Discrimination Affecting Limited English Proficient (LEP) Persons,” as required by Executive Order (EO) 13166, published in the Federal Register on January 22, 2007, and which became effective on March 7, 2007.

FOR FURTHER INFORMATION CONTACT: Pamela D. Walsh, Director, Program Standards and Compliance Division, Office of Fair Housing and Equal Opportunity, Department of Housing and Urban Development, 451 Seventh Street, SW., Room 5226, Washington, DC 20410, telephone: (202) 708-2904 (this is not a toll-free number). Persons with hearing or speech impairments may access this number via TTY by calling the toll-free Federal Information Relay Service at (800) 877-8339.

SUPPLEMENTARY INFORMATION: On January 22, 2007, HUD published in the Federal Register (72 FR 2732) final guidance to help recipients of federal financial assistance take reasonable steps to meet their regulatory and statutory obligations to ensure that LEP persons have meaningful access to HUD programs and activities (LEP Final Guidance). Under Title VI of the Civil Rights Act of 1964 (Title VI) and its implementing regulations, recipients of federal financial assistance have a responsibility to ensure meaningful access to programs and activities by LEP persons.

In the preamble to the Final Guidance, which provided responses to public comments received on the proposed guidance, HUD provided the Web site to demographic information based on 2000 Census or other data (see page 2736, third column and continuing on page 2737, first column). Since publication of the Final Guidance, HUD has been advised that the Web site provided in the Final Guidance is no longer active. This notice provides the updated Web site. The demographic information based on 2000 Census or other data can be found at the following Web site: http://www.census.gov/cac/www/007578.html.

In addition to this correction, on February 14, 2007, the Office of the Federal Register (OFR) published in the Federal Register a correction to HUD's Final Guidance that corrected a printing error made by the OFR in publishing HUD's Final Guidance on January 22, 2007 (See 72 FR 7134.) On February 16, 2007, HUD published a notice that moved the effective of the Final Guidance from February 21, 2007, to March 7, 2007.

HUD's Final Guidance, which incorporates these corrections, can be found at: http://www.hud.gov/offices/fheo/promotingfh/lep.cfm.

Dated: March 7, 2007.
Kim Kendrick,
Assistant Secretary for Fair Housing and Equal Opportunity.

[FR Doc. E7-4794 Filed 3-15-07; 8:45 am]

BILLING CODE 4210-67-P